CORPORATION FOR NATIONAL AND COMMUNITY SERVICE

Availability of Funds for Grants to Support New Senior Companion and Foster Grandparent Projects

AGENCY: Corporation for National and Community Service.

ACTION: Notice of availability of funds.

SUMMARY: The Corporation for National and Community Service (hereinafter, the “Corporation”) announces the availability of funding for grants to support, for twelve months, two new Senior Companion projects in geographic areas that do not fall within approved service areas of current Corporation-funded Senior Companion projects, and three new Foster Grandparent projects in geographic areas that do not fall within approved service areas of current Corporation-funded Foster Grandparent projects. Public agencies (including state and local agencies and other units of government), non-profit organizations (including community-based organizations, both faith-based and secular), institutions of higher education, and Indian Tribes are eligible to apply. Sponsors of Senior Companion projects that receive no funds from the Corporation, other than funding for Programs of National Significance (PNS), are eligible to apply. Current sponsors of Senior Companion projects funded by the Corporation are not eligible to apply for funding of a new Senior Companion project.

The purpose of the Senior Companion Program (SCP) is to provide opportunities for income eligible individuals 60 years of age and over to serve adults with special needs. The purpose of the Foster Grandparent Program (FGP) is to provide opportunities for income eligible individuals 60 years of age and over to serve children and youth with special or exceptional needs on a person to person basis.

Individual Senior Companion grant awards will be approximately $210,000 to cover the costs of 46 new Senior Companion service years for twelve months. Individual Foster Grandparent grant awards will be approximately $205,600 to cover the costs of 45 Foster Grandparent service years for twelve months. Future funding is contingent on performance and the availability of appropriations.

DATES: The deadline for applications is 11:59 p.m. Eastern Daylight Time on June 6, 2003. However, if for some legitimate reason it is necessary for you to submit a paper application, we must receive it by 5 p.m. on June 6, 2003.

ADDRESSES: Applications must be submitted using eGrants, the Corporation's integrated, secure, web-based system for applications. Application guidelines and instructions can be obtained through our Web site at http://www.cns.gov/egrants/index.html. Application guidelines and instructions also can be obtained by contacting the appropriate Corporation State Office. Information on how to contact state offices is located on our Web site: http://www.nationalservice.org. Click on “Contact Information” at the very bottom of the page. If you cannot submit an application electronically, submit a paper application, together with an electronic version of the application on a 3.5” diskette to facilitate data entry into the eGrants system, to the following address: Corporation for National and Community Service, National Senior Service Corps, Attn: Mr. Peter L. Boynton, Room 9401, 1201 New York Avenue, NW., Washington, DC., 20525. Due to delays in delivery of regular U.S.P.S. mail to government offices, there is no guarantee that your application will arrive in time to be considered. We suggest that if you are submitting a paper application, you use U.S.P.S. priority mail or a commercial overnight delivery service. Also, submit an explanation as to why you could not submit electronically. We will not accept an application that is submitted by facsimile.

FOR FURTHER INFORMATION CONTACT: Contact Peter Boynton at (202) 606-5000 ext. 554, or pboynton@cns.gov. TDD (202) 565-2799. This Notice, with the complete application guidelines included, is available on the Corporation's Web site at: http://www.cns.gov/whatshot/notices.html. Upon request, this information will be made available in alternative formats for people with disabilities.

Dated: April 10, 2003.
Teresa Scanell,
Director, National Senior Service Corps.

[FR Doc. 03-9329 Filed 4-15-03; 8:45 am]

BILLING CODE 6050-$$-P